DEPARTMENT OF EDUCATION

Office of Vocational and Adult Education; Reauthorization of Federal Support for Vocational and Technical Education Programs

AGENCY: Office of Vocational and Adult Education, U.S. Department of Education.

ACTION: Notice of public meetings and request for comment on the reauthorization of Federal support for vocational and technical education programs.

SUMMARY: The Assistant Secretary announces a series of public meetings and invites comments from the public regarding the reauthorization of programs under the Carl D. Perkins Vocational and Technical Education Act of 1998 (the Act) and related issues, including Federal support for secondary school reform.

Public Meetings

Dates, Time, and Addresses: We will hold public meetings according to the following schedule:

1. Date: October 15, 2002, Time: 9 a.m. to 12 p.m.

Location: Sheraton Nashua Hotel, Wentworth Ballroom, 11 Tara Boulevard, Nashua, NH 03062. Phone: (603) 888-9970. Fax: (603) 891-4179.

Hotel Information: A limited number of rooms has been reserved at the Sheraton Nashua Hotel located at 11 Tara Boulevard, Nashua, NH 03062. To make your reservations, please call 603-888-9970 and refer to “OVAE Public Meeting.” The room rate is $96.12 (tax inclusive) for the reserved rooms on a first-come, first-served basis. Check-in time is 3 p.m., and check-out time is 12 p.m.

2. Date: October 25, 2002, Time: 9 a.m. to 12 p.m.

Location: College of The Canyons, 26455 Rockwell Canyon Road, Santa Clarita, CA 91355. Phone: (661) 259-7800. Fax: (661) 259-8302.

Hotel Information: A limited number of rooms has been reserved at the Hyatt Valencia Hotel located at 24500 Town Center Drive, Valencia, CA 91355. To make your reservations, please call 1-800-233-1234 and refer to “OVAE Public Meeting.” The room rate is $108.90 (tax inclusive) for the reserved rooms on a first-come, first-served basis. Check-in time is 3 p.m., and check out time is 12 p.m.

Participants: Those who wish to present comments on the reauthorization of Federal support for vocational and technical education programs and related issues at one of the public meetings must reserve time on the agenda for that meeting by contacting the individuals identified under Reservations and Additional Meeting Information. Reservations for presenting comments will be accepted on a first-come, first-served basis.

Participants will be allowed approximately 3 to 5 minutes to present their comments, depending upon the number of individuals who reserve time on the agenda. At the meeting, participants also are encouraged to submit two written copies of their comments. Persons interested in making comments are encouraged to address the issues and questions discussed under SUPPLEMENTARY INFORMATION.

Reservations and Additional Meeting Information: Individuals who intend to present comments at one of the public meetings must make reservations by contacting Gerri Anderson, Conference Manager, 1010 Wayne Ave, Suite 300, Silver Spring, Maryland 20910 (voice) 1(888) 589-4366; (fax) (301) 589-4122; (Federal Information Relay Service) 1-800-877-8339; (e-mail) ganderson@dbconsultinggroup.com.

Assistance to Individuals With Disabilities at the Public Meetings

The meeting rooms and proceedings will be accessible to individuals with disabilities. In addition, when making reservations, anyone presenting comments at or attending a meeting who needs special accommodations, such as sign language interpreters, Braille materials, and communication access real-time transcription, should inform the previously listed individual of his or her specific accessibility needs. You should make requests for accommodations at least 10 working days prior to the scheduled meeting date. Although we will attempt to meet a request we receive after that date, we may not be able to make available the requested auxiliary aid or service because of insufficient time to arrange it.

Request for Written Comments

In addition to soliciting comments during the public meetings, we invite the public to submit written comments on the reauthorization of Federal support for vocational and technical education programs, as well as related issues, including secondary school reform. We are particularly interested in comments that address the issues and questions described under SUPPLEMENTARY INFORMATION.

DATES: Submit comments on or before October 31, 2002.

ADDRESSES: Written comments should be addressed to Gerry Anderson, Conference Manager, 1010 Wayne Ave, Suite 300, Silver Spring, Maryland 20910.

1. E-Mail. We encourage you to e-mail your comments to the following address: ganderson@dbconsultinggroup.com.

2. Facsimile. You may submit comments by facsimile at (301) 589-4122. If you use a telecommunications device for the deaf, you may call (202) 205-5538.

Individuals with disabilities may obtain a copy of this notice in an alternative format (e.g., Braille, large print, audiotape, or computer diskette) on request to the contact person listed in the previous paragraph. Availability of Copies of the Act: You may obtain an electronic copy of the Act on the Internet at the following site: http://www.ed.gov/offices/OVAE/CTE/legis.html.

Individuals with disabilities may obtain a copy of the Act in an alternative format (e.g., Braille, large print, audiotape, or computer diskette) on request to the contact number listed in the previous paragraph.

SUPPLEMENTARY INFORMATION: The Act authorizes Federal support to improve secondary and postsecondary vocational and technical education programs. The Act includes seven programs, with more than $1.3 billion in funding for Fiscal Year 2002. The funded programs are: the Vocational and Technical Education State Grants; Tech-Prep Education State Grants; National Activities, including a national research center; the Native American Vocational and Technical Education program; the Tribally-Controlled Postsecondary Vocational and Technical Institutions program; America's Career Resource Network grants to States; and the Tech-Prep Demonstration program.

The statutory authorization for these programs expires on September 30, 2004. In order to contribute in a timely manner to congressional reauthorization discussions, we are beginning a review of these programs, as well as related issues, including secondary school reform. To ensure public participation in our review and decision-making, we invite public comment on these issues.

Key Issues for Public Comment

Comments are encouraged on the following priority issues.

1. Narrowing the Achievement Gap

Since the release of A Nation At Risk in 1983, little if any, improvement has been made in the performance of our nation's high school students. By all accounts, improvements have not been substantial enough so that every student is prepared for a successful future. In fact, data show that by the end of the 1980s, progress stopped cold and, through the 1990s, achievement gaps have remained stable or widened. A number of trends indicate that we may still be a “nation at risk” of not preparing our students for their future.

Scores by 12th graders on the National Assessment of Educational Progress (NAEP) remain disturbingly low. As of 1998, only 40 percent of 12th graders were able to read at or above a proficient level and just 22 percent were able to write at or above a proficient level. Only 16 percent of 12th grade students in 2000 scored at or above a proficient level in math and 18 percent scored at or above a proficient level in science. Despite a substantial decrease in achievement gaps between 1970 and 1999, white students still consistently outperform peers of other racial and ethnic backgrounds in every subject area. In fact, by 1999, on average, 17-year-old African-American and Hispanic students had skills in English, mathematics, and science skills comparable to those of 13-year-old White students. Achievement gaps also exist among students who pursue different programs of study. As of 1994, vocational concentrators lagged behind other students in English, math, and science achievement.

On January 8, 2002, President George W. Bush signed into law the No Child Left Behind Act of 2001, the most sweeping reform of the Elementary and Secondary Education Act (ESEA) since it was enacted in 1965. Its provisions include increased accountability for States, school districts, and schools; greater choice for parents and students, particularly those attending low-performing schools; more flexibility for States and local educational agencies in the use of Federal education dollars; and a stronger emphasis on reading, especially for our youngest children.

Although No Child Left Behind applies to both elementary and secondary students, it places primary and much-needed emphasis on the 28 million public school students enrolled in kindergarten through 8th grade. Follow-up action that builds on No Child Left Behind may be needed to improve the achievement of the nation's high school students.

• Is there a need for additional or separate Federal action to address the achievement gap among secondary school students?

• Is there a need for additional or separate Federal action to address the achievement gap among non-baccalaureate postsecondary students?

• How should Federal support for vocational and technical education programs be aligned with Title I of the Elementary and Secondary Education Act and other elementary and secondary education programs?

• The current array of Federal programs that impact high schools and their students, may or may not represent a coherent Federal high school policy.

• What policies and programmatic elements would an effective, coherent Federal strategy to promote high school transformation include?

• How would existing vocational and technical education be modified to support this Federal strategy?

• Nearly one-third of college freshman take remedial math courses, and over one-quarter take remedial English. In some states, estimates of students requiring college remediation are nearly 50 percent. What can be done to assure that every student is prepared for postsecondary education, without the need for remediation?

2. Focusing on What Works

The Federal investment in vocational and technical education comprises about seven percent of the total amount spent nationally on vocational and technical education.

• How can these limited resources be targeted to maximize the return on the Federal investment?

• What are the features of effective secondary vocational and technical education programs that should be given higher priority for Federal resources?

• What are the features of effective postsecondary vocational and technical education programs that should be given higher priority for Federal resources?

• How should our national program funds be targeted to help close the achievement gap between high and low performing students, including factors that are based on gender, ethnicity, economic status and disability?

3. Increasing Accountability for Student Performance

The Act established a State accountability system that holds States accountable for meeting annual, agreed-upon levels of performance on a set of “core indicators” specified in the statute. Each State has discretion to determine how it will measure each of the indicators.

• While the Act's accountability system has heightened attention on student achievement, completion, and other outcomes, some contend that the system is needlessly complex and does not generate straightforward, easily understandable information about student, program, and State performance. How can this accountability system be simplified and improved?

• The law uses a single set of indicators to measure the effectiveness of both secondary and postsecondary programs. However, some of the indicators, such as attainment of State-establish academic proficiencies, are not readily applicable to postsecondary education. What indicators are most appropriate and useful for measuring the effectiveness of postsecondary vocational and technical education programs? To what types of students should they apply? For example, should non-credit students be included in the accountability system?

4. Coordination With Federal Employment and Training Programs

Title I of the Workforce Investment Act (WIA) created a one-stop delivery system that links multiple Federal education and training programs in order to make these services more accessible to the public, to reduce duplication of services, and to facilitate coordinated planning across programs. Postsecondary vocational and technical education programs supported by the Act are “mandatory partners” that are required to participate in the one-stop delivery system. They are also represented on local workforce investment boards that govern the one-stop system in local areas.

• Have the one-stop delivery system's goals of improving public access to postsecondary vocational and technical education, reducing duplication, and facilitating coordination been achieved in local areas? What changes are needed to promote the further attainment of these goals? How have memoranda of understanding [MOUs] worked to benefit the postsecondary vocational and technical education participant?

• States negotiate annual levels of performance for WIA Title I employment programs for a set of “core indicators” that are similar to that established under the Act. Placement in employment, for example, is measured for both WIA Title I and the Act. Should these indicators be measured consistently across these programs and others, using the same population and other definitions? How should this common employment measure be constructed and what definitions should be used? Are there other indicators [e.g., educational attainment] for which there should also be common measurement approaches and definitions?

• Have WIA incentive grants helped States look at ways to promote student achievement across programs and help close the achievement gap?

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 2301, et seq.

Dated: September 19, 2002.
Carol D'Amico,
Assistant Secretary for Vocational and Adult Education.

[FR Doc. 02-24251 Filed 9-23-02; 8:45 am]

BILLING CODE 4000-01-P